DEPARTMENT OF TRANSPORTATION

Federal Aviation Administration

Notice of Intent To Request Revision From the Office of Management and Budget of a Currently Approved Information Collection Activity, Request for Comments; Final Rule Certification of Repair Stations, Part 145 of Title 14, CFR

AGENCY: Federal Aviation Administration (FAA), DOT.

ACTION: Notice and request for comments.

SUMMARY: The FAA invites public comments about our intention to request the Office of Management and Budget (OMB) to approve a current information collection. Certain organizations may apply to perform certification functions on behalf of the FAA. Information is collected from applicants who wish to obtain repair station certification.

DATES: Please submit comments by December 30, 2008.

FOR FURTHER INFORMATION CONTACT: Carla Mauney on (202) 267-9895, or by e-mail at: Carla.Mauney@faa.gov.

SUPPLEMENTARY INFORMATION:

Federal Aviation Administration (FAA)

Title: Final Rule Certification of Repair Stations, Part 145 of Title 14, CFR.

Type of Request: Revision of an approved collection.

OMB Control Number: 2120-0682.

Form(s): FAA Form 8310-3.

Affected Public: A total of 4,503 Respondents.

Frequency: The information is collected on occasion.

Estimated Average Burden per Response: Approximately 219.7 hours per response.

Estimated Annual Burden Hours: An estimated 2,954,227 hours annually.

Abstract: Information is collected from applicants who wish to obtain repair station certification. Applicants must submit FAA form 8310-3 to the appropriate FAA flight standards district office for review.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on October 24, 2008.
Carla Mauney,
FAA Information Collection Clearance Officer, IT Enterprises Business Services Division, AES-200.

[FR Doc. E8-25943 Filed 10-30-08; 8:45 am]

BILLING CODE 4910-13-M